DEPARTMENT OF STATE

[Public Notice 4210]

Culturally Significant Objects Imported for Exhibition Determinations: “The First Europeans: Treasures From the Hills of Atapuerca”

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236 of October 19, 1999, as amended, I hereby determine that the objects to be included in the exhibition “The First Europeans: Treasures from the Hills of Atapuerca,” imported from abroad for temporary exhibition within the United States, are of cultural significance. The objects are imported pursuant to loan agreement with the foreign owner. I also determine that the exhibition or display of the exhibit objects at American Museum of Natural History, New York, NY, from on or about January 11, 2003, to on or about April 13, 2003, and at possible additional venues yet to be determined, is in the national interest. Public Notice of these Determinations is ordered to be published in the Federal Register.

FOR FURTHER INFORMATION CONTACT: For further information, including a list of the exhibit object, contact Julianne Simpson, Attorney-Adviser, Office of the Legal Adviser, U.S. Department of State, (telephone: 202/619-6529). The address is U.S. Department of State, SA-44, 301 4th Street, SW., Room 700, Washington, DC 20547-0001.

Dated: November 20, 2002.
Patricia S. Harrison,
Assistant Secretary for Educational and Cultural Affairs, Department of State.

[FR Doc. 02-29988 Filed 11-25-02; 8:45 am]

BILLING CODE 4710-08-P